SECURITIES AND EXCHANGE COMMISSION

[File No. 500-1]

Freedom Environmental Services, Inc.; Order of Suspension of Trading

September 17, 2012.

It appears to the Securities and Exchange Commission that there is a lack of current and accurate information concerning the securities of Freedom Environmental Services, Inc. (“Freedom”) because of questions regarding the adequacy and accuracy of publicly disseminated information by Freedom, and by others, in press releases to investors and in filings with the Commission concerning, among other things: (1) The identity of the persons in control of the company's operations and management; (2) the company's current financial condition; and (3) the misappropriation of corporate funds.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on September 17, 2012 through 11:59 p.m. EDT, on September 28, 2012.

By the Commission.
Jill M. Peterson,
Assistant Secretary.

[FR Doc. 2012-23196 Filed 9-17-12; 4:15 pm]

BILLING CODE 8011-01-P